DEPARTMENT OF COMMERCE

National Oceanic and Atmospheric Administration

50 CFR Part 635

[Docket No. 240916-0238; RTID 0648-XF352]

Atlantic Highly Migratory Species; Adjustments to the 2025 North Atlantic Albacore Tuna, North and South Atlantic Swordfish, and Atlantic Bluefin Tuna Category Quotas

AGENCY: National Marine Fisheries Service (NMFS), National Oceanic and Atmospheric Administration (NOAA), Commerce.

ACTION: Temporary rule; quota adjustment.

SUMMARY: NMFS adjusts the 2025 baseline quotas for U.S. North Atlantic albacore tuna (northern albacore) and North and South Atlantic swordfish quotas based on 2024 underharvest and applicable international quota transfers. NMFS also adjusts the 2025 Atlantic bluefin tuna category subquotas based on 2024 overharvest. These temporary adjustments apply throughout the 2025 fishing year and are effective through December 31, 2025 (for portions of the 2025 fishing year that are already completed, they are considered to apply retrospectively). These actions are necessary to implement the 2025 quotas consistent with the recommendations of the International Commission for the Conservation of Atlantic Tunas (ICCAT) as required by the Atlantic Tunas Convention Act (ATCA), and to achieve domestic management objectives under the Magnuson-Stevens Fishery Conservation and Management Act (Magnuson-Stevens Act). Full annual baseline allocations will be available to U.S. harvesters starting January 1, 2026. Note that NMFS intends to take separate action as soon as possible in 2026 to modify the baseline Atlantic bluefin tuna quota consistent with the quota agreed to at the 2025 ICCAT annual meeting.

DATES: Effective December 23, 2025, through December 31, 2025.

FOR FURTHER INFORMATION CONTACT: Steve Durkee (steve.durkee@noaa.gov) or Carrie Soltanoff (carrie.soltanoff@noaa.gov) by email or phone at 301-427-8503.

SUPPLEMENTARY INFORMATION: U.S. northern albacore, swordfish, and bluefin tuna fisheries, are managed under the authority of ATCA (16 U.S.C. 971 et seq.) and the Magnuson-Stevens Act (16 U.S.C. 1801 et seq.). The Highly Migratory Species Fishery Management Plan (HMS FMP) and its amendments are implemented by regulations at 50 CFR part 635. Section 635.27(a) implements the ICCAT-recommended quota and describes the annual quota adjustment process for bluefin tuna, including in the event of an overharvest. Section 635.27(c) implements the ICCAT-recommended quotas and describes the quota adjustment process for both North and South Atlantic swordfish. Section 635.27(e) implements the northern albacore annual quota recommended by ICCAT and describes the annual northern albacore quota adjustment process. NMFS is required under the Magnuson-Stevens Act to provide U.S. fishing vessels with a reasonable opportunity to harvest quotas under relevant international fishery agreements such as the International Convention for the Conservation of Atlantic Tunas, which is implemented domestically pursuant to ATCA.

Consistent with the relevant binding ICCAT Recommendations and the requirements under the Magnuson-Stevens Act, this action adjusts the 2025 baseline quotas for U.S. North Atlantic albacore tuna (northern albacore) and North and South Atlantic swordfish quotas based on 2024 underharvest and applicable international quota transfer. This action also adjusts the 2025 Atlantic bluefin tuna category subquotas based on 2024 overharvest. These temporary adjustments apply throughout the 2025 fishing year and are effective through December 31, 2025 (for portions of the 2025 fishing year that are already completed, they are considered to apply retrospectively). Furthermore, these temporary adjustments are consistent with the quota levels that NMFS considered throughout 2025 when taking actions during the fishing year to adjust the bluefin tuna retention limits and close bluefin tuna quota categories (e.g., 90 FR 25158, June 16, 2025; 90 FR 45152, September 19, 2025). Full annual baseline allocations will be available to U.S. harvesters starting January 1, 2026. Once complete catch information for fishing year 2025 is available, NMFS will determine whether any resulting adjustments to 2026 quotas are necessitated based on ICCAT overharvest requirements or underharvest carryover allowances. Additionally, NMFS plans to take action as soon as possible in 2026 to modify the baseline bluefin tuna quota consistent with the quota that was agreed to at the 2025 ICCAT annual meeting.

Note that, consistent with how the quotas are established, weight information for northern albacore and bluefin tuna below is shown in metric tons (mt) whole weight (ww), and weight information for swordfish is shown in both dressed weight (dw) and ww.

Northern Albacore Annual Quota and Adjustment Process

Consistent with the northern albacore quota regulations at § 635.27(e), NMFS adjusts the U.S. annual northern albacore quota for allowable underharvest in the previous year. NMFS makes such adjustments consistent with ICCAT carryover limits, and when complete catch information for the prior year is available and finalized. The baseline quota is 889.4 mt. The maximum underharvest that may be carried forward from one year to the next is 25 percent of its baseline quota, thus 222.4 mt.

For 2024, the adjusted quota was 1,067.3 mt (89 FR 77029, September 20, 2024). In 2024, the United States landed 228.4 mt of northern albacore which is 838.9 mt less than the 2024 adjusted quota. This underharvest exceeds the 222.4-mt underharvest carryover limit allowed under Recommendation 23-05; therefore, only 222.4 mt may be carried forward to the 2025 fishing year. Thus, the adjusted 2025 northern albacore quota will be 1,111.8 mt (889.4-mt baseline quota + 222.4-mt carryover = 1,111.8 mt) (table 1).

Table 1—2024 Northern Albacore Quota
Northern albacore quota (mt ww) | 2024 | 2025
Baseline Quota | 889.4 | 889.4
Underharvest from Previous Year | 708.9 | 838.9
Underharvest Carryover from Previous Year † | (+) 177.9 | (+) 222.4
Adjusted Quota (Baseline + Underharvest) | 1,067.3 | 1,111.8
† Allowable underharvest carryover is capped at 25 percent of the baseline quota allocation (222.4 mt ww).

North and South Atlantic Swordfish Annual Quota and Adjustment Process

North Atlantic Swordfish

Consistent with the North Atlantic swordfish quota regulations at § 635.27(c), in this action, NMFS adjusts the 2025 U.S. annual North Atlantic swordfish quota for allowable underharvest from 2024. NMFS makes such adjustments consistent with ICCAT carryover limits and when complete catch information for the prior year is available and finalized. The U.S. North Atlantic swordfish baseline annual quota is 2,937.6 mt dw (3,907 mt ww).

As codified at § 635.27(c)(3), the maximum North Atlantic swordfish underharvest that may be carried forward from one year to the next is 15 percent of the baseline quota, which equates to 440.6 mt dw (586 mt ww). For 2024, the adjusted North Atlantic swordfish quota was 3,227.8 mt dw (89 FR 77029, September 20, 2024). In 2024, U.S. landings of North Atlantic swordfish, which includes landings and dead discards, was 669.5 mt dw, which is 2,558.3 mt dw less than the 2024 adjusted quota. This underharvest exceeds the 440.6-mt dw underharvest carryover limit allowed; therefore, only 440.6 mt dw may be carried forward to the 2025 fishing year. Additionally, specific to only 2025, ICCAT Recommendation 24-10 provides for a transfer of quota from the United States to Costa Rica of 225.6 mt dw (300 mt ww).

Thus, the adjusted 2025 North Atlantic swordfish quota will be 3,152.6 mt dw (2,937.6-mt dw baseline quota + 440.6-mt dw underharvest−225.6-mt dw quota transfer to Costa Rica = 3,152.6 mt dw). From the adjusted quota and consistent with § 635.27(c)(1)(i), 50 mt dw would be allocated to the Reserve category for inseason adjustments and research; 300 mt dw would be allocated to the incidental category, which covers recreational landings and landings by incidental swordfish permit holders; and the remainder of the adjusted quota (2,802.6 mt dw) would be allocated to the directed category, which will be split equally between two seasons in 2025 (January through June, and July through December) (table 2).

Table 2—2025 North Atlantic Swordfish Quotas
North Atlantic swordfish quota (mt dw) | 2024 | 2025
Baseline Quota | 2,937.6 | 2,937.6
International Quota Transfers * | (−) 150.4 | (−) 225.6
Underharvest from Previous Year | 2,369.9 | 2,558.3
Underharvest Carryover from Previous Year † | (+) 440.6 | (+) 440.6
Adjusted Quota (Baseline + Carryover + Transfer) | 3,227.8 | 3,152.6
Quota Allocation:
Directed Category | 3,028.2 | 2,802.6
Incidental Category | 300 | 300
Reserve Category | 50 | 50
* Under ICCAT Recommendation 23-04, the United States transferred 150.4 mt dw (200 mt ww) to Morocco in 2024. Under ICCAT Recommendation 24-10, the United States would transfer 225.6 mt dw (300 mt ww) to Costa Rica in 2025.
† Allowable underharvest carryover is capped at 15 percent of the baseline quota (440.6 mt dw).

South Atlantic Swordfish

Consistent with the South Atlantic swordfish quota regulations at § 635.27(c), NMFS adjusts the U.S. annual South Atlantic swordfish quota for allowable underharvest, if any, in the previous year. NMFS makes such adjustments, if needed, consistent with ICCAT carryover limits and when complete catch information for the prior year is available and finalized. Consistent with ICCAT Recommendation 17-03 as amended by Recommendation 22-04, the U.S. South Atlantic swordfish baseline annual quota is 75.2 mt dw (100 mt ww), and the amount of underharvest that the United States can carry forward from one year to the next is 75.2 mt dw (100 mt ww) (table 3). In 2024, there were no landings of South Atlantic swordfish by U.S. fishermen, which is an underharvest of 75.2 mt dw of the 2024 adjusted quota. Of that underharvest, 75.2 mt dw may be carried forward to the 2025 fishing year. Under Recommendations 17-03 and 22-04, the United States continues to transfer a total of 75.2 mt dw (100 mt ww) to other countries. These transfers are 37.6 mt dw (50 mt ww) to Namibia, 18.8 mt dw (25 mt ww) to Côte d'Ivoire, and 18.8 mt dw (25 mt ww) to Belize. Thus, the adjusted 2025 South Atlantic swordfish quota will be 75.2 mt dw (table 3).

Table 3—2025 South Atlantic Swordfish Quotas
South Atlantic swordfish quota (mt dw) | 2024 | 2025
Baseline Quota | 75.2 | 75.2
International Quota Transfers * | (−) 75.2 | (−) 75.2
Underharvest from Previous Year | 75.2 | 75.2
Underharvest Carryover from Previous Year † | 75.2 | 75.2
Adjusted quota (Baseline + Carryover + Transfers) | 75.2 | 75.2
* Under ICCAT Recommendation 22-04, the United States transfers 75.2 mt dw (100 mt ww) annually as follows: Namibia (37.6 mt dw, 50 mt ww), Côte d'Ivoire (18.8 mt dw, 25 mt ww), and Belize (18.8 mt dw, 25 mt ww).
† Allowable underharvest carryover is capped at 75.2 dw (100 mt ww) for the South Atlantic.

Bluefin Tuna Annual Quota, Subquotas, and Adjustment Process

Consistent with the bluefin tuna quota regulations at § 635.27(a), in this action, NMFS adjusts the 2025 U.S. annual bluefin tuna quota and subquotas due to an overharvest in 2024. NMFS makes such temporary adjustments consistent with ICCAT overharvest requirements and when complete catch information for the prior year is available and finalized. The 2025 U.S. bluefin tuna baseline annual quota is 1,316.14 mt, not including an additional annual 25-mt allocation allocated for incidental catch by pelagic longline vessels fishing in the Northeast Distant gear restricted area (NED). As described above, these temporary adjustments apply throughout the 2025 fishing year and are effective through December 31, 2025 (for portions of the 2025 fishing year that are already completed, they are considered to apply retrospectively). Furthermore, these temporary adjustments are consistent with the quota levels that NMFS considered throughout 2025 when taking actions during the fishing year to adjust bluefin tuna retention limits and close bluefin tuna quota categories (e.g., 90 FR 25158, June 16, 2025; 90 FR 45152, September 19, 2025).

Per the regulatory formula established at 50 CFR 635.27(a), the baseline bluefin tuna quota is divided among domestic quota categories according to the following percentages: General—54 percent (710.7 mt); Angling—22.6 percent (297.4 mt); Longline—15.9 percent (209.3 mt) (i.e., total not including the 25-mt allocation for the NED); Harpoon—4.5 percent (59.2 mt); Trap—0.1 percent (1.3 mt); and Reserve—2.9 percent (38.2 mt). Note that any fishing under exempted fishing permits, scientific research permits, and display permits per the regulations at § 635.32 is accounted against the school reserve or Reserve quota (§ 635.27(a)(6)) depending on the size of the fish.

Under ICCAT Recommendation 22-10, if, in a given year, any ICCAT Party has an overharvest of its total quota, its initial quota for the next year will be reduced by 100 percent of the excess of such total quota, and ICCAT may authorize other appropriate actions. Further, if an ICCAT Party has an overharvest of its total quota during any two consecutive years, ICCAT will recommend appropriate measures, which may include, but are not limited to, reduction in the ICCAT Party's total quota equal to a minimum of 125 percent of the overharvest amount and, if necessary, trade restrictive measures. Additionally, under the regulations at § 635.27(a)(9), on an annual basis, based on landing, catch statistics, and other available information, if NMFS determines that catches from the previous year indicates that a bluefin tuna quota for any category or, as appropriate, subcategory has been exceeded (overharvest), NMFS may subtract all or a portion of the overharvest from that quota category or subcategory for the following fishing year.

The 2024 adjusted bluefin tuna quota was 1,475.2 mt (89 FR 77029, September 20, 2024). The total U.S. bluefin tuna catch (which includes landings and pelagic longline dead discards) in 2024 was 1,616.4 mt. Thus, the U.S. catch exceeded the 2024 adjusted quota by 141.2 mt. As such, consistent with the ICCAT Recommendation 22-10 and the regulations, NMFS is reducing the overall 2025 quota by 141.2 mt. Subtracting the total overharvest amount of 141.2 mt from the 2025 U.S. baseline quota of 1,341.14 mt (including the 25-mt set-aside for the NED) results in a total adjusted quota of 1,199.94 mt for 2025.

Also, consistent with § 635.27(a)(9), NMFS is adjusting the subquotas of the categories that exceeded their quota. Catches by the following three bluefin tuna quota categories contributed to the 2024 overharvest: 78 percent by the Angling category, 19 percent by the General category, and 3 percent by the Harpoon category. Applying those percentages to the total overharvest amount of 141.2 mt results in the pro rata reductions shown in table 4. The resulting 2025 adjusted quota and subquota allocations can be found in table 4.

Table 4—Baseline Bluefin Tuna Quotas and Subquotas and 2025 Adjusted Quotas and Subquotas
| Baseline quota and subquotas (mt) | Pro rata reductions to categories for 2025 (mt) | 2025 adjusted quota and subquotas (mt)
Subquotas:
General category | 710.7 | −26.8 | 683.9
Harpoon category | 59.2 | −4.3 | 54.9
Longline category | 209.3 |  | 209.3
Trap category | 1.3 |  | 1.3
Angling category | 297.4 | −110.1 | 187.3
Reserve category | 38.2 |  | 38.2
NED set-aside (for use by the Longline category) | 25 |  | 25
Annual Total U.S. quota | 1,341.14 | −141.2 | 1,199.94

Classification

NMFS issues this action pursuant to section 305(d) of the Magnuson-Stevens Act (16 U.S.C. 1855(d)) and regulations at 50 CFR part 635 and this action is exempt from review under Executive Order 12866.

The AA finds that pursuant to 5 U.S.C. 553(b)(B), it is unnecessary to provide prior notice of, and an opportunity for public comment on, this action for the following reasons. The rulemaking processes for Amendment 13 to the 2006 Consolidated HMS FMP (87 FR 59966, October 3, 2022), the 2022 Atlantic bluefin tuna and northern albacore quota rule (87 FR 33049, June 1, 2022), and the 2016 North and South Atlantic Swordfish Quota Adjustment Rule (81 FR 48719, July 26, 2016) specifically provided prior notice of, and accepted public comment on, the formulaic quota adjustment processes for the northern albacore, Atlantic bluefin tuna, and swordfish fisheries and the manner in which they occur. These processes have not changed, and the application of these formulas to adjust the relevant quotas is a routine action that does not have discretionary aspects requiring additional agency consideration. Additionally, similar actions to adjust the quotas based on finalized information regarding the previous year's landings occur annually, and the regulated community expects such adjustments in 2025. NMFS has also informed fishery participants through various management actions throughout the 2025 fishing season of the pending quota adjustments. The delay that would result from unnecessarily soliciting public comments would interfere with management of the fisheries at issue. These fisheries are currently open and permit holders are actively fishing, and delay thus raises the risk that the quotas could be exceeded. For all of these reasons, it is unnecessary to provide prior notice and an additional opportunity for public comment on this action.

There is good cause under 5 U.S.C. 553(d)(3) to waive the 30-day delay in the date of effectiveness and to make the rule effective upon the date of publication in the Federal Register. As described above, this is a routine action that applies existing quota adjustment formulas, and that the regulated community anticipates annually. The 2025 fisheries for northern albacore, North and South Atlantic swordfish, and bluefin tuna opened on January 1, 2025, and end on December 31, 2025. As noted above, these fisheries are currently open, permit holders are actively fishing, and the adjusted quotas automatically revert back to the baseline quotas on January 1, 2026. As such, there is no need to delay the effective date of this rule's quota adjustments. Any further delay would be contrary to the Magnuson-Stevens Act requirement to allow U.S. vessels reasonable opportunity to harvest highly migratory species allocations and quotas under relevant international fishery agreements such as ICCAT.

Because prior notice and opportunity for public comment are not required for this rule by 5 U.S.C. 553, or any other law, the analytical requirements of the Regulatory Flexibility Act, 5 U.S.C. 601 et seq., are inapplicable.

Authority: 16 U.S.C. 971 et seq. and 1801 et seq.

Dated: December 19, 2025.
Kelly Denit,
Director, Office of Sustainable Fisheries, National Marine Fisheries Service.

[FR Doc. 2025-23749 Filed 12-22-25; 8:45 am]

BILLING CODE 3510-22-P